DEPARTMENT OF HOUSING AND URBAN DEVELOPMENT

[Docket No. FR-5693-C-01]

Privacy Act of 1974; Republication To Delete and Update Privacy Act System of Records Notifications; Correction

AGENCY: Office of the Chief Information Officer, HUD.

ACTION: Notice of a Correction to System of Records.

SUMMARY: On February 6, 2013, HUD issued a notice in the Federal Register entitled, “Republication to Delete and Update Privacy Act System of Records Notifications”. Moreover, HUD inadvertently repeated in the “Prefatory Statement of General Routine Uses” two routine uses. This duplication was made in error and this notice corrects that error, and updates the total number of Prefatory Statements of General Routine Uses reported under that notice.

FOR FURTHER INFORMATION CONTACT: The Chief Privacy Officer, 451 Seventh Street SW., Room 4156, Washington, DC 20410, (202) 402-8073 (Attention: Capitol View Building, 4th Floor). (This is not a toll-free number.) A telecommunication device for hearing- and speech-impaired individuals (TTY) is available at (800) 877-8339 (Federal Information Relay Service).

SUPPLEMENTARY INFORMATION: Subsequent to the republication on February 6, 2013, HUD discovered that the Prefatory Statement of General Routine Uses inadvertently reported repeated information that HUD proposes to exclude from that publication. In addition, this notice updates and corrects the proposed number of Prefatory Statements of Routine Uses published for that notice to 17.

In conclusion, in the Federal Register on February 6, 2013, in FR Doc. 2013-02672, on page 8554, the second column, this notice removes the “Action” caption for routine use number 10: To appropriate Federal, state, local, tribal, or governmental agencies or multilateral governmental organizations responsible for investigating or prosecuting the violations of, or for enforcing or implementing, a statute, rule, regulation, order, or license, where HUD determines that the information would assist in the enforcement of civil or criminal laws; and, routine use number 11: To third parties during the course of a law enforcement investigation to the extent necessary to obtain information pertinent to the investigation, provided disclosure is appropriate to the proper performance of the official duties of the officer making the disclosure.

Dated: March 21, 2013.
Jerry E. Williams,
Chief Information Officer.

[FR Doc. 2013-07522 Filed 3-29-13; 8:45 am]

BILLING CODE 4210-67-P